DEPARTMENT OF LABOR

Employment and Training Administration

[TA-W-81,879]

RG Steel Wheeling, LLC, a Division of RG Steel, LLC, Doing Business as Wheeling Corrugating Company, Including Workers Whose Wages Were Reported Through Severstal Wheeling, Beech Bottom, WV; Amended Certification Regarding Eligibility To Apply for Worker Adjustment Assistance

In accordance with Section 223 of the Trade Act of 1974, as amended (“Act”), 19 U.S.C. 2273, the Department of Labor issued a Certification of Eligibility to Apply for Worker Adjustment Assistance on September 25, 2012, applicable to workers of RG Steel Wheeling, LLC, a division of RG Steel, LLC, doing business as Wheeling Corrugating Company, Beech Bottom, West Virginia. The Department's notice of determination was published in the Federal Register on October 12, 2012 (77 FR 62262).

At the request of a state workforce office, the Department reviewed the certification for workers of the subject firm. The workers are engaged in activities related to the production of roof and floor decks.

New information shows that some workers separated from employment at RG Steel Wheeling, LLC had their wages reported through a separate unemployment insurance (UI) tax account under the name Severstal Wheeling, a former owner of the workers' firm.

The intent of the Department's certification is to include all workers of the subject firm who meet the worker group certification criteria under Section 222(b) of the Act, 19 U.S.C. 2272(b).

Accordingly, the Department is amending this certification to properly reflect this matter.

The amended notice applicable to TA-W-81,879 is hereby issued as follows:

All workers of RG Steel Wheeling, LLC, a division of RG Steel, LLC, doing business as Wheeling Corrugating Company, Beech Bottom, West Virginia, including workers whose unemployment insurance (UI) wages are reported through Severstal Wheeling who became totally or partially separated from who became totally or partially separated from employment on or after August 7, 2011, through September 25, 2014, and all workers in the group threatened with total or partial separation from employment on date of certification through two years from the date of certification, are eligible to apply for adjustment assistance under Chapter 2 of Title II of the Trade Act of 1974, as amended.

Signed in Washington, DC this 1st day of November, 2012.
Elliott S. Kushner,
Certifying Officer, Office of Trade Adjustment Assistance.

[FR Doc. 2012-27416 Filed 11-8-12; 8:45 am]

BILLING CODE 4510-FN-P